DEPARTMENT OF JUSTICE

Antitrust Division

Notice Pursuant to the National Cooperative Research and Production Act of 1993—National Warheads and Energetics Consortium

Notice is hereby given that, on April 16, 2009, pursuant to Section 6(a) of the National Cooperative Research and Production Act of 1993, 15 U.S.C. 4301 et seq. (“the Act”), the National Warheads and Energetics Consortium (“NWEC”) has filed a written notification simultaneously with the Attorney General and the Federal Trade Commission disclosing changes to the nature and objectives of the venture and changes in its membership. The notifications were filed for the purpose of invoking the Act's provisions limiting the recovery of antitrust plaintiffs to actual damages under specified circumstances. Specifically, the following parties have been added as members to this venture: Accurate Energetics Systems LLC, McEwen, TN; Action Manufacturing Company, Philadelphia, PA; Advanced Materials & Manufacturing Technologies, LLC, Granite Bay, CA; Advanced Powder Products, Inc., Philipsburg, PA; Ahura Corporation, Wilmington, MA; Alliant TechSystems Inc., Plymouth, MN; Alliant TechSystems, Inc. Launch Systems, Brigham City, UT; American Systems Corp., Chantilly, VA; Applied Energetics, Inc., Tucson, AZ; Applied Research Associates, Albuquerque, NM; Applied Sonics Incorporated, Littleton, CO; Axsun Technologies, Inc., Naples, FL; BAE Systems, Kingsport, TN; BEC Manufacturing Corporation, Saddle Brook, NJ; Bennington Microtechnology Center, North Bennington, VT; BlastGard International, Inc., Clearwater, FL; CAR Solutions Corp., Fremont, CA; CarboMet, LLC, Morristown, NJ; Chemical Compliance Systems, Inc., Lake Hopatcong, NJ; CLogic, LLC, Avon, CT; Concurrent Technologies Corporation, Johnstown, PA; Dindl Firearms Manufacturing, Inc., Newton, NJ; Dynamic Flowform Corporation, Billerica, MA; Dynamic Systems and Research Corporation, Albuquerque, NM; Dynetics, Inc., Huntsville, AL; Eagle Picher Technologies, Inc., Joplin, MO; El Dorado Engineering, Inc., Salt Lake City, UT; Electronics Development Corporation, Columbia, MD; Energetics Materials & Products, Round Rock, TX; EnerSys Advanced Systems Inc., Horsham, PA; Engineering and Management Executives, Inc., Alexandria, VA; Erigo Technologies LLC, Enfield, NH; FED-COMM USA, Inc., Escondido, CA; Folsom Technologies International, LLC, East Greenbush, NY; Frontier Performance Polymers Corporation, Parsippany, NJ; G. Schneider & Associates, Tempe, AZ; General Atomics, San Diego, CA; General Dynamics Ordnance and Tactical Systems, Niceville, FL; Georgia Tech Applied Research Corporation, Atlanta, GA; Goodrich Sensors and Integrated Systems, Vergennes, VT; Gunger Engineering, Niceville, FL; Hi-Shear Technology Corporation, Torrance, CA; Hittite Microwave Corporation, Chelmsford, MA; Honeywell International, Inc., Defense and Space/Missiles and Munitions, Redmond, WA; 1-IT Microanalytical Inc., Albuquerque, NM; Imperial Machine & Tool Company, Columbia, NJ; Infoscitex Corporation, Waltham, MA; Kaman Aerospace Corporation, Middletown, CT; Key Technologies, Inc., Baltimore, MD; Kilgore Flares Company, LLC, Toone, TN; L-3 Fuzing & Ordnance Systems, Cincinnati, OH; Lasertel, Inc., Tucson, AZ; Latrobe Specialty Steel Company, Latrobe, PA; Lockheed Martin Company, Orlando, FL; Logistics Engineering and Systems Integration Services, LLC, Brea, CA; Malcolm Pirnie, Inc., White Plains, NY; Material Processing and Research, Inc., Hackensack, NJ; Mecar USA Inc., Marshall, TX; Medico Industries, Inc., Wilkes-Barre, PA; Mull Sensor Systems and Actuators Inc., West Newton, MA; Missouri University of Science and Technology, Columbia, MO; Mixed Signal Integration, San Jose, CA; MSE Technology Application, Inc., Butte, MT; Mustang Technology Group, Allen, TX; Nammo Talley Inc., Mesa, AZ; Nanomaterials Discovery Corporation, Cheyenne, WY; nanoPrecision Products, Inc., El Segundo, CA; NASCEN Technology, Watertown, SD; National Technical Systems, Inc., Camden, AR; nLIGHT Photonics Corporation, Vancouver, WA; Northrop Grumman Space Technology, Redondo Beach, CA; NovaTech, Lynchburg, VA; Nuvotronics, Blacksburg, VA; Pacific Scientific Energetic Materials Company, Chandler, AZ; Pendulum Management Company, LLC, Charlestown, IN; Planning Systems, Inc., Reston, VA; Plasma Processes, Inc., Huntsville, AL; Polestar Technologies, Inc., Needham Heights, MA; Polymer Processing Institute, Newark, NJ; QuesTek Innovations, LLC, Evanston, IL; Raytheon Company, Waltham, MA; Reynolds Systems, Inc., Middletown, CA; Safety Consulting Engineers, Schaumburg, IL; SAIC, Picatinny, NJ; SAIC Systems Engineering and Advanced Technology Division, La Plata, ND; Savit Corporation, Parsippany, NJ; SciTech Services, Inc., Edgewood, MD; SMH International, LLC, Mt. Laurel, NJ; South Carolina Research Authority (SCRA), N. Charleston, SC; Special Devices, Inc., Moorpark, CA; Spectra Technologies LLC, Camden, AR; Stanley Associates, Huntsville, AL; Stevens Institute of Technology, Hoboken, NJ; STG, Inc., Reston, VA; Subsystem Technologies, Inc., Arlington, VA; Syntronics, LLC, Fredericksburg, VA; Systima Technologies, Inc., Bothell, WA; Tanenhaus and Associates, Inc., Orlando, FL; Tanner Research, Inc., Monrovia, CA; Technikon, LLC, McClellan, CA; Teledyne RISI, Tracy, CA; Texas Tech University, Lubbock, TX; The Boeing Company, St. Louis, MO; The Ex One Company, LLC, Irwin, PA; The Timken Company, Canton, OH; Thermal and Mechanical Technologies, Lafayette, LA; Touchstone Research Laboratory, LTD, Triadelphia, WV; TPL, Inc., Albuquerque, NM; Tyco Electronics, Lowell, MA; Universal Technical Resource Services, Inc., Cherry Hill, NJ; University of Florida, Gainesville, FL; University of Mississippi, University, MS; University of Texas at Austin, Austin, TX; UXB International, Inc., Blacksburg, VA; and West Virginia University Research Corporation, Morgantown, WV.

Also, the following parties have been removed as parties to this venture: Advanced Technology & Research Corporation, Burtonsville, MD; Allied Signal Federal Manufacturing & Technologies, Kansas City, MO; Alliant Missile Products Co LLC, Hopkins, MN; Applied Ordnance Technology, Inc., Waldorf, MD; Business Plus Corporation, Denville, NJ; Bulova Technologies LLC, Lancaster, PA; CFD Research Corporation, Huntsville, AL; Climax Molybdenum Corp., Tempe, AZ; Eaton Associates, LaPorte, IN; Energetic Materials Research and Testing Center, Socorro, NM; Enig Associates, Inc., Silver Spring, MD; Flurochem, Inc., Azusa, CA; GEO-CENTERS, Inc., Newton Centre, MA; General Dynamics Armament Systems, Burlington, VT; Highly Filled Materials Institute, Stevens Institute of Technology, Hoboken, NJ; Iowa Army Ammunitions Plant, Niddletown, IA; KVA Advanced Technologies, Inc., Carson City, NV; Loki Inc., Rolla, MO; Marconi Aerospace Defense Systems, Inc., Austin, TX; Material Processing & Research, Inc. Hoboken, NJ; N. Bruns Corporation, Alexandria, VA; Mitretek Systems, Inc., McLean, VA; Office of Research Services, Rolla, MO; Powdermet, Inc., Sun Valley, CA; Primex Technologies, Inc., St. Petersburg, FL; Quantic Industries, Inc., San Caries, CA; Raytheon Systems Company, Tewksbury, MA; RTF Industries, Marshall, TX; SRI International, Menlo Park, CA; STREASAU Laboratory, Inc., Spooner, WI; Talley Defense Systems, Inc., Mesa, AZ; Thermo Power Corporation, Waltham, MA; Thiokol Propulsion Group, Brigham City, UT; and United Defense, LP, Armament Services Division, Minneapolis, MN.

The nature and objectives of the venture are to conduct innovative research and development, leading to technology demonstrations that further the state of the art in the area of warheads and energetics needed to develop and transition new technologies into weapon systems to support the advancement of future war fighting. NWEC is a consortium of companies and academic institutions brought together to enhance the warfighter's lethality and survivability by leveraging the nation's industrial and academic research and development bases to advance and expand our military technological superiority in critical fields of warheads, explosives, propellants, pyrotechnics, fuze/sensors, demilitarization, enabling technologies, and insensitive munitions.

No other changes have been made in either the membership or planned activity of the group research project. Membership in this group research project remains open, and NWEC intends to file additional written notifications disclosing all changes in membership.

On May 2, 2000 NWEC Filed its original notification pursuant to Section 6(a) of the Act. The Department of Justice published a notice in the Federal Register pursuant to Section 6(b) of the Act on June 30, 2000 (65 FR 40693).

Patricia A. Brink,
Deputy Director of Operations, Antitrust Division.

[FR Doc. E9-11818 Filed 5-21-09; 8:45 am]

BILLING CODE 4410-11-M